DEPARTMENT OF COMMERCE

International Trade Administration

[A-570-848]

Freshwater Crawfish Tail Meat from the People's Republic of China: Extension of Time Limit for Preliminary Results of Antidumping Duty Administrative Review and New Shipper Review

AGENCY: Import Administration, International Trade Administration, Department of Commerce.

EFFECTIVE DATE: May 19, 2006.

FOR FURTHER INFORMATION CONTACT: Scot Fullerton or Erin Begnal, AD/CVD Operations, Office 9, Import Administration, International Trade Administration, U.S. Department of Commerce, 14th Street and Constitution Avenue, NW., Washington, DC 20230; telephone: (202) 482-1386 or (202) 482-1442, respectively.

Background

On October 25, 2005, the Department of Commerce (“Department”) initiated an administrative review of the antidumping duty order on freshwater crawfish tail meat from the People's Republic of China. See Notice of Initiation of Antidumping and Countervailing Duty Administrative Reviews and Request for Revocation in Part, 70 FR 61601 (October 25, 2005). The review was initiated for 13 individually named firms, and the period of review (POR) is September 1, 2004, through August 31, 2005.¹ Of the 13 named firms for which the Department initiated an administrative review, the reviews of 7 of these firms were rescinded on February 15, 2006. See Notice of Partial Rescission of Antidumping Administrative Review, 71 FR 7915 (February 15, 2006).²

¹ These firms are China Kingdom Import & Export Co., Ltd. (aka China Kingdom Import & Export Co., Ltd., aka Zongda Import & Export Co., Ltd.) (China Kingdom), Jiangsu Hilong International Trading Company, Ltd. (Jiangsu Hilong), Jiangsu Jiushoutang Organisms-Manufactures Co., Ltd. (Jiangsu JOM), Shangai Sunbeauty Trading Co., Ltd. (Shanghai Sunbeauty), Ningbo Nanlian Frozen Foods Company, Ltd. (Ningbo Nanlian), Qingdao Jinyongxiang Aquatic Foods Co., Ltd. (Qingdao JYX), Qingdao Wentai Trading Co., Ltd. (Qingdao Wentai), Qingdao Zhengri Seafood Co., Ltd. (Qingdao Zhengri), Weishan Zhenyu Foodstuff Co., Ltd. (Weishan Zhenyu), Xuzhou Jinjiang Foodstuffs Co., Ltd. (Xuzhou Jinjiang), Yancheng Haiteng Aquatic Products & Foods Co., Ltd. (Yancheng Haiteng), Yancheng Hi-King Agriculture Developing Co., Ltd. (Yancheng Hi-King), and Yancheng Yaou Seafood Co., Ltd. (Yancheng Yaou).

² The seven firms for which the review was rescinded are China Kingdom, Jiangsu Hilong, Qingdao Zhengri, Weishan Zhenyu, Yancheng Haiteng, Yancheng Yaou, and Ningbo Nanlian.

The preliminary results of this administrative review for the remaining respondents (Jiangsu JOM, Shangai Sunbeauty, Qingdao JYX, Qingdao Wentai, Xuzhou Jinjiang, and Yancheng Hi-King) are currently due by June 2, 2006.

Extension of Time Limit for Preliminary Results

Pursuant to section 751(a)(3)(A) of the Tariff Act of 1930, as amended (the Act), the Department shall issue preliminary results in an administrative review of an antidumping duty order within 245 days after the last day of the anniversary month of the date of publication of the order for which a review is requested and the final results within 120 days after the date on which the preliminary results are published. However, if it is not practicable to complete the review within the specified time periods, section 751(a)(3)(A) of the Act allows the Department to extend these deadlines to a maximum of 365 days and 180 days, respectively.

The Department has determined that completion of the preliminary results within the originally anticipated time limit, i.e., by June 2, 2006, is impracticable. The Department requires additional time to analyze the parties' responses to the Department's questionnaires, as well as to issue any necessary supplemental questionnaires and to conduct verifications. Consequently, it is not practicable to complete the review within the time specified under the Act. Therefore, the Department is extending the time limit for completion of these preliminary results by 120 days to September 30, 2006, in accordance with section 751(a)(3)(A) of the Act.

Additionally, on February 16, 2006, and February 21, 2006, in accordance with 19 CFR 351.214(j)(3), Xuzhou Jinjiang and Xiping Opeck Food Co. Ltd., respectively, agreed to waive the time limits of their new shipper reviews, and agreed to have their reviews conducted concurrently with the administrative review of this order for the same POR. See Notice of Postponement of Time Limits for New Shipper Antidumping Duty Reviews in Conjunction With Administrative Review, 71 FR 13963 (March 20, 2006). Therefore, the preliminary results of these new shipper reviews will also be extended by 120 days to September 30, 2006. The deadline for the final results of these reviews continues to be 120 days after the publication of the preliminary results.

We are issuing and publishing this notice in accordance with sections 751(a)(1) and 777(i)(1) of the Act.

Dated: May 15, 2006.
Stephen J. Claeys,
Deputy Assistant Secretary for Import Administration.

[FR Doc. E6-7681 Filed 5-18-06; 8:45 am]

Billing Code: 3510-DS-S